SUSQUEHANNA RIVER BASIN COMMISSION

Actions Taken at September 18, 2020, Meeting

AGENCY: Susquehanna River Basin Commission

ACTION: Notice.

SUMMARY: As part of its regular business meeting held on September 18, 2020, from Harrisburg, Pennsylvania, the Commission approved the applications of certain water resources projects, and took additional actions, as set forth in the Supplementary Information below.

DATES: September 18, 2020.

ADDRESSES: Susquehanna River Basin Commission, 4423 N. Front Street, Harrisburg, PA 17110-1788.

FOR FURTHER INFORMATION CONTACT: Jason E. Oyler, General Counsel and Secretary, telephone: (717) 238-0423, ext. 1312, fax: (717) 238-2436; email: joyler@srbc.net. Regular mail inquiries may be sent to the above address. See also Commission website at www.srbc.net.

SUPPLEMENTARY INFORMATION: In addition to the actions taken on projects identified in the summary above and the listings below, the following items were also presented or acted upon at the business meeting: (1) tabled action on a general permit; (2) rescission of Policy No. 98-03; (3) ratification of grants and agreements; (4) modifications to the Commission expense budget for fiscal year 2021; (5) adoption of the proposed expense budget for fiscal year 2022; (6) adoption of resolution regarding member allocation; (7) adoption of an updated Water Resources Program; (8) adoption of amendments to the Comprehensive Plan; (9) approval of two emergency certificate extensions; (10) approval of a request for waiver of 6-month renewal deadline; and (11) election of officers for FY2021.

Project Applications Approved

1. Project Sponsor and Facility: Bloomfield Borough Water Authority, Centre Township, Perry County, Pa. Application for renewal of groundwater withdrawal of up to 0.056 mgd (30-day average) from Well 1 (Docket No. 19901103).

2. Project Sponsor: Byler Golf Management, Inc. Project Facility: Iron Valley Golf Club, Cornwall Borough, Lebanon County, Pa. Modification to change consumptive use mitigation method (Docket No. 19981206).

3. Project Sponsor and Facility: Cabot Oil & Gas Corporation, Eaton Township, Wyoming County, Pa. Application for renewal of groundwater withdrawal of up to 0.864 mgd (30-day average) from the Hatchery Wellfield (Wells 1, 2, and 3) (Docket No. 20160610).

4. Project Sponsor and Facility: Cabot Oil & Gas Corporation (Susquehanna River), Great Bend Township, Susquehanna County, Pa. Application for renewal of surface water withdrawal of up to 2.000 mgd (peak day) (Docket No. 20160902).

5. Project Sponsor and Facility: Chesapeake Appalachia, L.L.C. (Susquehanna River), Wilmot Township, Bradford County, Pa. Application for surface water withdrawal of up to 3.000 mgd (peak day).

6. Project Sponsor and Facility: Chesapeake Appalachia, L.L.C. (Susquehanna River), Windham Township, Wyoming County, Pa. Application for surface water withdrawal of up to 3.000 mgd (peak day).

7. Project Sponsor and Facility: Chesapeake Appalachia, L.L.C. (Wyalusing Creek), Wyalusing Township, Bradford County, Pa. Application for surface water withdrawal of up to 3.000 mgd (peak day).

8. Project Sponsor and Facility: Green Leaf Water LLC (Lycoming Creek), Lewis Township, Lycoming County, Pa. Application for renewal of surface water withdrawal of up to 0.900 mgd (peak day) (Docket No. 20160601).

9. Project Sponsor and Facility: Lake Meade Municipal Authority, Reading Township, Adams County, Pa. Application for groundwater withdrawal of up to 0.252 mgd (30-day average) from Well 3.

10. Project Sponsor and Facility: Meadia Heights Golf Club LLC, West Lampeter Township, Lancaster County, Pa. Modification to change consumptive use mitigation method (Docket No. 20000204).

11. Project Sponsor and Facility: Montgomery Water Authority, Clinton Township, Lycoming County, Pa. Application for renewal of groundwater withdrawal of up to 0.267 mgd (30-day average) from Well 1 (Docket No. 19881102).

12. Project Sponsor: Pixelle Specialty Solutions LLC. Project Facility: Spring Grove Mill (Codorus Creek and Unnamed Tributary to Codorus Creek), Spring Grove Borough, Jackson Township, and North Codorus Township, York County, Pa. Applications for existing surface water withdrawals (peak day) of up to 19.800 mgd (New Filter Plant Intake), 6.000 mgd (Old Filter Plant Intake), and 0.750 mgd (Kessler Pond Intake); consumptive use of up to 3.650 mgd (peak day); and existing groundwater withdrawals (30-day average) of up to 0.039 mgd (Well 1) and 0.021 mgd (Well 2). Proposed action to include combining all existing and new approvals into a single approval document with a single approval term.

13. Project Sponsor and Facility: Repsol Oil & Gas USA, LLC (Susquehanna River), Sheshequin Township, Bradford County, Pa. Application for renewal of surface water withdrawal of up to 1.500 mgd (peak day) (Docket No. 20160908).

14. Project Sponsor and Facility: S.T.L. Resources, LLC (West Branch Susquehanna River), Grugan Township, Clinton County, Pa. Application for surface water withdrawal of up to 3.450 mgd (peak day).

15. Project Sponsor and Facility: Shippensburg Borough Authority, Southampton Township, Cumberland County, Pa. Application for renewal of groundwater withdrawal of up to 1.280 mgd (30-day average) from Well 1 (Docket No. 19900713).

Commission Initiated Project Approval Modifications

16. Project Sponsor and Facility: The Municipal Authority of the Borough of Berlin, Allegheny Township, Somerset County, Pa. Conforming the grandfathering amount with the forthcoming determination for a groundwater withdrawal up to 0.030 mgd (30-day average) from Well 6 (Docket No. 19980702).

17. Project Sponsor and Facility: Iron Masters Country Club, Bloomfield Township, Bedford County, Pa. Conforming the grandfathering amount with the forthcoming determination for groundwater withdrawals up to 0.051 mgd (30-day average) from Well 10 and up to 0.061 mgd (30-day average) from Well 14 (Docket No. 20020813).

18. Project Sponsor and Facility: Sinking Valley Country Club, Tyrone Township, Blair County, Pa. Conforming the grandfathering amount with the forthcoming determination for groundwater withdrawals up to 0.081 mgd (30-day average) from the 14th Fairway Well and up to 0.099 mgd (30-day average) from the 8th Tee Well (Docket No. 20020811).

Project Application Tabled

19. Project Sponsor: Togg Mountain, LLC. Project Facility: Toggenburg Mountain Winter Sports Center (West Branch Tioughnioga Creek), Town of Fabius, Onondaga County, N.Y. Modification to increase consumptive use (peak day) by an additional 0.505 mgd, for a total consumptive use of up to 0.990 mgd, and increase surface water withdrawal (peak day) by an additional 2.300 mgd, for a total surface water withdrawal of up to 4.500 mgd (Docket No. 20180911).

Authority: Pub.L. 91-575, 84 Stat. 1509 et seq., 18 CFR parts 806, 807, and 808.

Jason E. Oyler,
General Counsel and Secretary to the Commission.

[FR Doc. 2020-21190 Filed 9-24-20; 8:45 am]

BILLING CODE 7040-01-P